DEPARTMENT OF AGRICULTURE

Rural Housing Service

Section 538 Guaranteed Rural Rental Housing Program for Fiscal Year 2013

AGENCY: Rural Housing Service, USDA.

ACTION: Notice; amendment.

SUMMARY: The Rural Housing Service (RHS) is amending a Notice published May 23, 2013 (78 FR 30854-30860). This action is taken to extend the eligible properties to include Rural Development financed Farm Labor Housing properties. This amendment is to ensure that all eligible properties are included.

Correction

In the Federal Register May 23, 2013, in FR Doc. 2013-12325, on page 30857, the first column, first paragraph, is amended to read as follows:

Also eligible is the revitalization, repair and transfer (as stipulated in 7 CFR 3560.406) of existing direct Section 515 and Section 514/516 Farm Labor Housing (FLH) (transfer costs are subject to Agency approval and must be an eligible use of loan proceeds as listed in 7 CFR 3565.205), and properties involved in the Agency's Multi-Family Preservation and Revitalization (MPR) program. Equity payment, as stipulated in 7 CFR 3560.406, in the transfer of existing direct Section 515 and Section 514/516 FLH, is an eligible use of guaranteed loan proceeds; however, the amount of funding available for transfers of existing Section 515 and Section 514/516 FLH properties involving equity payments will be limited to 25 percent of the FY 2013 funding level through July 31, 2013 * * *

On page 30858, under the heading “Data element” the 18th data element is amended to read Revitalization, Repair, and Transfer (as stipulated in 7 CFR 3560.406) of Existing Direct Section 515 and Section 514/516 FLH or MPR.

On page 30859, in the third column, under the heading “Priority 6” is amended to read: Responses for the revitalization, repair, and transfer (as stipulated in 7 CFR 3560.406) of existing direct section 515 and section 514/516 FLH and properties * * *

On page 30859, in the third column, under the heading “Priority 7” is amended to read: Section 515 Rural Rental Housing and Section 514/516 FLH Projects—Projects in which Section 538 funds will not be used to finance new construction of Section 515 Rural Rental Housing or Section 514/516 FLH projects * * *

Dated: August 20, 2013.
Richard A. Davis,
Acting Administrator, Rural Housing Service.

[FR Doc. 2013-21059 Filed 8-28-13; 8:45 am]

BILLING CODE 3410-XV-P